DEPARTMENT OF TRANSPORTATION

Federal Aviation Administration

14 CFR Part 39

[Docket No. 2002-NE-37-AD; Amendment 39-13080; AD 2003-05-04]

RIN 2120-AA64

Airworthiness Directives; Rolls-Royce Deutschland Ltd. & Co KG, Model Tay 611-8, 620-15, 650-15, and 651-54 Turbofan Engines

AGENCY: Federal Aviation Administration, DOT.

ACTION: Final rule; request for comments.

SUMMARY: This amendment supersedes an existing airworthiness directive (AD) that is applicable to Rolls-Royce Deutschland Ltd. & Co KG (RRD) Model Tay 620-15 and 650-15 turbofan engines. That AD currently requires initial and repetitive inspections of certain low pressure (LP) fuel tubes. This amendment requires the same inspections and adds two engine models to the applicability. This amendment is prompted by a report that certain Tay 611-8 and 651-54 turbofan engines may use the same LP fuel tube. The actions specified in this AD are intended to prevent a dual-engine flameout due to fuel exhaustion, which could lead to forced landing and possible damage to the airplane.

DATES: Effective March 26, 2003. The incorporation by reference of certain publications listed in the rule is approved by the Director of the Federal Register as of March 26, 2003. The incorporation by reference of certain other publications, as listed in the regulations, was approved previously by the Director of the Federal Register as of December 18, 2002 (67 FR 71814; December 3, 2002).

Comments for inclusion in the Rules Docket must be received on or before May 12, 2003.

ADDRESSES: Submit comments in triplicate to the Federal Aviation Administration (FAA), New England Region, Office of the Regional Counsel, Attention: Rules Docket No. 2002-NE-37-AD, 12 New England Executive Park, Burlington, MA 01803-5299. Comments may be inspected at this location, by appointment, between 8:00 a.m. and 4:30 p.m., Monday through Friday, except Federal holidays. Comments may also be sent via the Internet using the following address: 9-ane-adcomment@faa.gov. Comments sent via the Internet must contain the docket number in the subject line.

The service information referenced in this AD may be obtained from Rolls-Royce Deutschland Ltd. & Co KG, Eschenweg 11, D-15827 DAHLEWITZ, Germany; telephone 49 (0) 33-7086-1768; fax 49 (0) 33-7086-3356. This information may be examined, by appointment, at the FAA, New England Region, Office of the Regional Counsel, 12 New England Executive Park, Burlington, MA; or at the Office of the Federal Register, 800 North Capitol Street, NW., suite 700, Washington, DC.

FOR FURTHER INFORMATION CONTACT: James Lawrence, Aerospace Engineer, Engine Certification Office, FAA, Engine and Propeller Directorate, 12 New England Executive Park, Burlington, MA 01803-5299; telephone 781-238-7176; fax 781-238-7199.

SUPPLEMENTARY INFORMATION: On November 21, 2002, the FAA issued AD 2002-24-06, Amendment 39-12971 (67 FR 71814, December 3, 2002) to require an initial inspection within 300 hours time-in-service (TIS) after the effective date of the AD, or one month after the effective date of the AD, whichever occurred first. That action was prompted by a report of a dual-engine flameout on a Fokker F.28 Mark 0100 airplane that resulted in a forced landing and destruction of the airplane. That condition, if not corrected, could result in a dual-engine flameout due to fuel exhaustion, which could lead to forced landing and possible damage to the airplane. The Luftfhart Bundesamt (LBA), which is the airworthiness authority for Germany, determined that a leak from the LP fuel tube, part number (P/N) JR33021A, which connects the LP fuel flowmeter to the high pressure (HP) fuel pump, resulted in complete fuel exhaustion and subsequent dual engine flameout.

Since AD 2002-24-06 was issued, the LBA has notified the FAA that the same unsafe condition may exist on RRD Model Tay 611-8 and 651-54 turbofan engines with Part 4 of RRD SB TAY-73-1194 incorporated.

Manufacturer's Service Information

RRD has issued SB TAY-73-1540, Revision 1, dated September 13, 2002, that specifies procedures for inspecting the LP fuel tube, P/N JR33021A, for fretting on Tay 620-15 and 650-15 turbofan engines. The LBA classified this service bulletin as mandatory and issued AD No. 2002-331, dated September 13, 2002, in order to ensure the airworthiness of these engines in Germany. RRD has also issued SB TAY-73-1553, Revision 1, dated December 13, 2002, that specifies procedures for inspecting the LP fuel tube, P/N JR33021A, for fretting on Tay 611-8 and 651-54 turbofan engines. The LBA classified this service bulletin as mandatory and issued AD No. 2002-358, dated November 28, 2002, in order to ensure the airworthiness of these RRD Model Tay 611-8 and 651-54 turbofan engines in Germany.

Bilateral Airworthiness Agreement

These engine models are type certificated in Germany, and are type certificated for operation in the United States under the provisions of section 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

FAA's Determination of an Unsafe Condition and Required Actions

Since an unsafe condition has been identified that is likely to exist or develop on other RRD Tay 611-8, 620-15, 650-15, and 651-54 turbofan engines of the same type design, this AD is being issued to prevent a dual-engine flameout due to fuel exhaustion, which could lead to forced landing and possible damage to the airplane. Since the effective date of AD 2002-24-06 was December 18, 2002, and all TAY 620-15 and 650-15 engines should have completed the initial inspection, this AD requires:

• An initial inspection of the LP fuel tube for fretting before further flight for Tay 620-15 and 650-15 turbofan engines.

• An initial inspection of the LP fuel tube for fretting within 300 hours TIS or one month after the effective date of this AD, whichever occurs first for Tay 611-8 and 651-54 turbofan engines.

• Repetitive inspections for fretting of the LP fuel tube within 2,000 hours TIS after the last inspection for Tay 611-8, 620-15, 650-15, and 651-54 turbofan engines.

The actions must be done in accordance with the service bulletins described previously. The inspections required by this AD are considered interim action, and further rulemaking actions may be taken.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2002-NE-37-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12971 (67 FR 71814, December 3, 2002) and by adding a new airworthiness directive, Amendment 39-13080, to read as follows:

2003-05-04 Rolls-Royce Deutschland Ltd. & Co KG: Amendment 39-13080. Docket No. 2002-NE-37-AD. Supersedes AD 2002-24-06, Amendment 39-12971.

Applicability: This airworthiness directive (AD) is applicable to Rolls-Royce Deutschland Ltd. & Co KG (RRD), Model Tay 620-15, 650-15 turbofan engines with low pressure (LP) fuel tube, part number (P/N) JR33021A, installed, and Tay 611-8 and 651-54 turbofan engines with Part 4 of RRD service bulletin (SB) TAY-73-1194 incorporated and LP fuel tube, P/N JR33021A, installed. These engines are installed on, but not limited to Fokker F.28 Mark 0100 airplanes, Supplemental Type Certificate No. SA842SW, Boeing 727 airplanes, and Gulfstream G-IV airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Compliance with this AD is required as indicated, unless already done.

To prevent a dual-engine flameout due to fuel exhaustion which could lead to forced landing and possible damage to the airplane, do the following:

Tay 620-15 and 650-15 Turbofan Engines

(a) Before further flight, for Tay 620-15 and 650-15 turbofan engines, inspect LP fuel tube, P/N JR33021A, for fretting in accordance with 3.C.1. through 3.C.10. of the Accomplishment Instructions of RRD SB TAY-73-1540, Revision 1, dated September 13, 2002.

(b) Thereafter, for Tay 620-15 and 650-15 turbofan engines, inspect the LP fuel tube, P/N JR33021A, for fretting in accordance with 3.C.1. through 3.C.10. of the Accomplishment Instructions of RRD SB TAY-73-1540, Revision 1, dated September 13, 2002; at intervals not to exceed 2,000 hours time-in-service (TIS) since the last inspection.

Tay 611-8 and 651-54 Turbofan Engines

(c) For Tay 611-8 and 651-54 turbofan engines with Part 4 of RRD service bulletin (SB) TAY-73-1194 incorporated and 4,000 or more hours TIS, within 300 hours TIS after the effective date of this AD or one month after the effective date of this AD, whichever occurs first, inspect LP fuel tube, P/N JR33021A, for fretting in accordance with 3.C.1. through 3.C.11. of the Accomplishment Instructions of RRD SB TAY-73-1553, Revision 1, dated December 13, 2002.

(d) For Tay 611-8 and 651-54 turbofan engines with Part 4 of RRD service bulletin (SB) TAY-73-1194 incorporated and fewer than 4,000 hours TIS, upon reaching 4,000 hours TIS or within one month after the effective date of this AD, whichever occurs later, inspect LP fuel tube, P/N JR33021A, for fretting in accordance with 3.C.1. through 3.C.11. of the Accomplishment Instructions of RRD SB TAY-73-1553, Revision 1, dated December 13, 2002.

(e) Thereafter, for Tay 611-8 and 651-54 turbofan engines with Part 4 of RRD service bulletin (SB) TAY-73-1194 incorporated, inspect the LP fuel tube, P/N JR33021A, for fretting in accordance with 3.C.1. through 3.C.11. of the Accomplishment Instructions of RRD SB TAY-73-1553, Revision 1, dated December 13, 2002; at intervals not to exceed 2,000 hours TIS since the last inspection.

Alternative Methods of Compliance

(f) An alternative method of compliance or adjustment of the compliance time that provides an acceptable level of safety may be used if approved by the Manager, Engine Certification Office (ECO). Operators must submit their requests through an appropriate FAA Principal Maintenance Inspector, who may add comments and then send it to the Manager, ECO.

Note 2: Information concerning the existence of approved alternative methods of compliance with this airworthiness directive, if any, may be obtained from the ECO.

Special Flight Permits

(g) Special flight permits may be issued in accordance with §§ 21.197 and 21.199 of the Federal Aviation Regulations (14 CFR 21.197 and 21.199) to operate the airplane to a location where the requirements of this AD can be done.

Documents That Have Been Incorporated by Reference

(h) The inspections must be done in accordance with the following Rolls-Royce Deutschland Ltd. & Co KG service bulletins (SB's):

Document No. | Pages | Revision | Date
SB TAY-73-1540—Total pages: 9 | All | 1 | September 13, 2002.
SB TAY-73-1553—Total pages: 10 | All | 1 | December 13, 2002.

The incorporation by reference of SB TAY-73-1540, Revision 1, dated September 13, 2002, was approved by the Director of the Federal Register on December 18, 2002 (67 FR 71814; December 3, 2002). The incorporation by reference of SB TAY-73-1553, Revision 1, dated December 13, 2002, was approved by the Director of the Federal Register in accordance with 5 U.S.C. 552(a) and 1 CFR part 51. Copies may be obtained from Rolls-Royce Deutschland Ltd. & Co KG, Eschenweg 11, D-15827 DAHLEWITZ, Germany; telephone 49 (0) 33-7086-1768; fax 49 (0) 33-7086-3356. Copies may be inspected at the FAA, New England Region, Office of the Regional Counsel, 12 New England Executive Park, Burlington, MA; or at the Office of the Federal Register, 800 North Capitol Street, NW., suite 700, Washington, DC.

Note 3: The subject of this AD is addressed in LBA airworthiness directives AD No. 2002-331, dated September 13, 2002, and AD No. 2002-358, dated November 28, 2002.

Effective Date

(i) This amendment becomes effective on March 26, 2003.

Issued in Burlington, Massachusetts, on March 4, 2003.
Jay J. Pardee,
Manager, Engine and Propeller Directorate, Aircraft Certification Service.

[FR Doc. 03-5583 Filed 3-10-03; 8:45 am]

BILLING CODE 4910-13-P